DEPARTMENT OF ENERGY

Federal Energy Regulatory Commission

Sunshine Act Meeting Notice

The following notice of meeting is published pursuant to section 3(a) of the government in the Sunshine Act (Pub. L. 94-409), 5 U.S.C. 552b:

Agency Holding Meeting: Federal Energy Regulatory Commission.

Date and Time: December 18, 2014 10 a.m.

Place: Room 2C, 888 First Street NE., Washington, DC 20426.

STATUS: Open.

Matters to be Considered: Agenda. * Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1011th—Meeting—Regular Meeting
[December 18, 2014, 10 a.m.]
Item No. | Docket No. | Company
Administrative
A-1 | AD02-1-000 | Agency Business Matters
A-2 | AD02-7-000 | Customer Matters, Reliability, Security and Market Operations
A-3 | AD15-3-000 | Discussion on Coal Delivery
Electric
E-1 | ER13-1447-000 | Public Service Company of New Mexico
| ER13-1448-000 | NorthWestern Corporation
| ER13-1450-000 | Arizona Public Service Company
| ER13-1457-000 | Deseret Generation & Transmission Co-operative, Inc.
| ER13-1461-000 | Tucson Electric Power Company
| ER13-1462-000 | UNS Electric, Inc.
| ER13-1463-000 | Portland General Electric Company
| ER13-1465-000 | El Paso Electric Company
| ER13-1466-000 | NV Energy, Inc.
| ER13-1467-000 | Idaho Power Company
| ER13-1469-000 | Public Service Company of Colorado
| ER13-1470-000 | California Independent System Operator Corporation
| ER13-1471-000 | Cheyenne Light, Fuel and Power Company
| ER13-1472-000 | Black Hills Power, Inc.
| ER13-1473-000 | PacifiCorp
| ER13-1474-000 | Black Hills/Colorado Electric Utility Company, LP
| ER13-1729-000 | Puget Sound Energy, Inc.
| ER13-1730-000 | Avista Corporation
| ER14-346-001 | MATL LLP
| NJ13-10-000 | Bonneville Power Administration
E-2 | ER13-1944-000 | PJM Interconnection, L.L.C.
| ER13-1943-000, ER13-1943-001 | Midcontinent Independent System Operator, Inc.
| ER13-1924-000 | PJM Interconnection, L.L.C., Duquesne Light Company
| ER13-1945-000 | Midcontinent Independent System Operator, Inc.
| ER13-1955-000 | Entergy Services, Inc.
| ER13-1956-000 | Cleco Power LLC (Not Consolidated)
E-3 | EL13-88-000 | Northern Indiana Public Service Company v. Midcontinent Independent System Operator, Inc. and PJM Interconnection, L.L.C.
E-4 | EL14-97-000 | Public Service Company of Colorado
E-5 | EC14-112-000 | PPL Corporation, RJS Power Holdings LLC
E-6 | RM15-3-000 | Revisions to Part 46 Filing Requirements
E-7 | OMITTED
E-8 | ER14-75-000, ER14-75-001 | Entergy Arkansas, Inc.
| ER14-76-000, ER14-76-001, ER14-1329-000 (Consolidated) | Entergy Gulf States Louisiana, L.L.C.
| ER14-77-000, ER14-77-001, ER14-1328-000 | Entergy Louisiana, LLC
| ER14-78-000, ER14-78-001 | Entergy Mississippi, Inc.
| ER14-79-000, ER14-79-001 | Entergy New Orleans, Inc.
| ER14-80-000, ER14-80-001, ER14-128-000 | Entergy Texas, Inc.
E-9 | ER12-1179-019, ER13-1173-002 | Southwest Power Pool, Inc.
E-10 | ER14-2979-000, ER14-2979-001 | NV Energy, Inc.
E-11 | ER14-2085-000, ER11-3658-000, ER12-1920-000, ER13-1595-000, EL10-65-000 (Consolidated) | Entergy Services, Inc., Louisiana Public Service Commission v. Entergy Corporation, Entergy Services, Inc., Entergy Louisiana, LLC, Entergy Arkansas, Inc., Entergy Mississippi, Inc., Entergy New Orleans, Inc., Entergy Gulf States Louisiana, L.L.C., Entergy Texas, Inc.
E-12 | ER14-2022-000 | Midcontinent Independent System Operator, Inc.
E-13 | ER15-129-000 | California Independent System Operator Corporation
E-14 | ER15-66-000 | California Independent System Operator Corporation
E-15 | ER15-50-000 | California Independent System Operator Corporation
E-16 | ER13-103-004, ER13-103-005 | California Independent System Operator Corporation
E-17 | OMITTED
E-18 | OMITTED
E-19 | EL05-121-009 | PJM Interconnection, L.L.C.
E-20 | EL15-12-000, QF98-54-001 | Alaska Power & Telephone Company, City of Saxman, Alaska
E-21 | EL10-65-000, EL10-65-001 | Louisiana Public Service Commission v. Entergy Corporation, Entergy Services, Inc., Entergy Louisiana, LLC, Entergy Arkansas, Inc., Entergy Mississippi, Inc., Entergy New Orleans, Inc., Entergy Gulf States Louisiana, L.L.C., Entergy Texas, Inc.
E-22 | EL11-65-001 | Louisiana Public Service Commission v. Entergy Corporation, Entergy Services, Inc., Entergy Louisiana, LLC, Entergy Arkansas, Inc., Entergy Mississippi, Inc., Entergy New Orleans, Inc., Entergy Gulf States Louisiana, L.L.C., Entergy Texas, Inc.
E-23 | OMITTED
E-24 | EL14-93-000 | State Corporation Commission of the State of Kansas v. Westar Energy, Inc.
E-25 | EL15-14-000 | Energy Producers and Users Coalition
E-26 | EL14-9-001, QF11-424-003, EL14-18-001 | Gregory and Beverly Swecker v. Midland Power Cooperative, Gregory Swecker and Beverly Swecker v. Midland Power Cooperative and Central Iowa Power Cooperative
E-27 | ER15-203-000 | Evergreen Gen Lead, LLC
E-28 | ER11-4069-001 | RITELine Illinois, LLC
| ER11-4070-002 | RITELine Indiana, LLC
E-29 | EL14-89-000 | GDF Suez Energy Resources, NA v. New York Independent System Operator, Inc., and Consolidated Edison Company of New York, Inc.
Gas
G-1 | PR14-55-000 | Arkansas Oklahoma Gas Corporation
G-2 | RP14-247-000, RP14-247-001, RP14-247-002, RP14-247-003, RP13-968-000, RP13-968-001, RP13-968-002, RP13-968-003, RP13-968-004 | Sea Robin Pipeline Company, LLC
G-3 | OR14-41-000 | American Airlines, Inc. v. Buckeye Pipe Line Company, L.P.
Hydro
H-1 | P-14368-001 | Catamount Metropolitan District
Certificates
C-1 | OMITTED
C-2 | CP13-551-000 | Transcontinental Gas Pipeline Company, LLC
C-3 | CP09-161-000 | Bison Pipeline LLC
C-4 | CP14-17-000 | Columbia Gas Transmission, LLC
C-5 | CP14-104-000 | Texas Eastern Transmission, LP

Issued: December 11, 2014.
Kimberly D. Bose,
Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2014-29876 Filed 12-18-14; 11:15 am]

BILLING CODE 6717-01-P